DEPARTMENT OF TRANSPORTATION

Federal Aviation Administration

14 CFR Part 97

[Docket No. 30812; Amdt. No. 3452]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 25, 2011. The compliance date for each SIAP, associated Takeoff Minimums, and ODP is specified in the amendatory provisions.

The incorporation by reference of certain publications listed in the regulations is approved by the Director of the Federal Register as of November 25, 2011.

ADDRESSES: Availability of matters incorporated by reference in the amendment is as follows:

For examination—

1. FAA Rules Docket, FAA Headquarters Building, 800 Independence Avenue SW., Washington, DC 20591;

2. The FAA Regional Office of the region in which the affected airport is located;

3. The National Flight Procedures Office, 6500 South MacArthur Blvd., Oklahoma City, OK 73169; or

4. The National Archives and Records Administration (NARA). For information on the availability of this material at NARA, call (202) 741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on November 11, 2011.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 15 DEC 2011

Tatitlek, AK, Tatitlek, RNAV (GPS) RWY 31, Orig

Tatitlek, AK, Tatitlek, Takeoff Minimums and Obstacle DP, Orig

Birmingham, AL, Birmingham-Shuttlesworth Intl, LOC RWY 18, Amdt 2

Talladega, AL, Talladega Muni, RNAV (GPS) RWY 3, Amdt 1A

San Diego, CA, San Diego Intl, Takeoff Minimums and Obstacle DP, Amdt 7

Visalia, CA, Visalia Muni, VOR RWY 12, Amdt 6

Defuniak Springs, FL, Defuniak Springs, RNAV (GPS) RWY 27, Amdt 1

Jacksonville, FL, Jacksonville Intl, ILS OR LOC RWY 8, ILS RWY 8 (SA CAT I), ILS RWY 8 (CAT II), ILS RWY 8 (CAT III), Amdt 13

Jacksonville, FL, Jacksonville Intl, ILS OR LOC RWY 14, Amdt 7

Jacksonville, FL, Jacksonville Intl, ILS OR LOC RWY 26, Amdt 2

Jacksonville, FL, Jacksonville Intl, NDB RWY 7, Amdt 9C, CANCELLED

Jacksonville, FL, Jacksonville Intl, RNAV (GPS) RWY 8, Amdt 1

Jacksonville, FL, Jacksonville Intl, RNAV (GPS) RWY 14, Amdt 1

Jacksonville, FL, Jacksonville Intl, RNAV (GPS) RWY 26, Amdt 1

Jacksonville, FL, Jacksonville Intl, RNAV (GPS) RWY 32, Amdt 2

Jacksonville, FL, Jacksonville Intl, Takeoff Minimums and Obstacle DP, Amdt 1

Jacksonville, FL, Jacksonville Intl, VOR/DME RWY 32, Amdt 2

Leesburg, FL, Leesburg Intl, NDB RWY 31, Amdt 2

Leesburg, FL, Leesburg Intl, RNAV (GPS) RWY 3, Amdt 1

Leesburg, FL, Leesburg Intl, RNAV (GPS) RWY 13, Amdt 2

Leesburg, FL, Leesburg Intl, RNAV (GPS) RWY 31, Amdt 1

Leesburg, FL, Leesburg Intl, Takeoff Minimums and Obstacle DP, Amdt 4

Tampa, FL, Tampa Executive, RNAV (GPS) RWY 5, Orig

Americus, GA, Jimmy Carter Rgnl, ILS OR LOC/NDB RWY 23, Amdt 1

Americus, GA, Jimmy Carter Rgnl, RNAV (GPS) RWY 5, Amdt 1

Americus, GA, Jimmy Carter Rgnl, RNAV (GPS) RWY 23, Amdt 1

Americus, GA, Jimmy Carter Rgnl, Takeoff Minimums and Obstacle DP, Amdt 2

Kailua/Kona, HI, Kona Intl at Keahole, RNAV (GPS) Y RWY 17, Amdt 1A

Cedar Rapids, IA, The Eastern Iowa, ILS OR LOC RWY 27, Amdt 6B

Chicago, IL, Chicago Midway Intl, RNAV (GPS) RWY 4R, Amdt 2A

Kokomo, IN, Kokomo Muni, ILS OR LOC RWY 23, Amdt 10

Kokomo, IN, Kokomo Muni, RNAV (GPS) RWY 23, Amdt 1

Terre Haute, IN, Terre Haute Intl-Hulman Field, RNAV (GPS) RWY 5, Orig-B

Terre Haute, IN, Terre Haute Intl-Hulman Field, RNAV (GPS) RWY 23, Amdt 1

Louisville, KY, Bowman Field, NDB RWY 33, Amdt 16

Louisville, KY, Bowman Field, RNAV (GPS) RWY 24, Amdt 1

Louisville, KY, Bowman Field, RNAV (GPS) RWY 33, Orig

Louisville, KY, Bowman Field, VOR RWY 24, Amdt 8

Murray, KY, Kyle-Oakley Field, GPS RWY 5, Amdt 1 CANCELLED

Murray, KY, Kyle-Oakley Field, GPS RWY 23, Amdt 1 CANCELLED

Murray, KY, Kyle-Oakley Field, LOC RWY 23, Amdt 2

Murray, KY, Kyle-Oakley Field, RNAV (GPS) RWY 5, Orig

Murray, KY, Kyle-Oakley Field, RNAV (GPS) RWY 23, Orig

Murray, KY, Kyle-Oakley Field, Takeoff Minimums and Obstacle DP, Amdt 4

Boston, MA, General Edward Lawrence Logan Intl, ILS OR LOC RWY 4R, ILS RWY 4R (SA CAT I), ILS RWY 4R (CAT II), ILS RWY 4R (CAT III), Amdt 10

Boston, MA, General Edward Lawrence Logan Intl, ILS OR LOC RWY 22L, Amdt 8

Boston, MA, General Edward Lawrence Logan Intl, ILS OR LOC RWY 33L, ILS RWY 33L (SA CAT I), ILS RWY 33L (SA CAT II), Amdt 4

Boston, MA, General Edward Lawrence Logan Intl, ILS OR LOC/DME RWY 15R, Amdt 1C

Boston, MA, General Edward Lawrence Logan Intl, RNAV (GPS) RWY 4R, Amdt 1

Boston, MA, General Edward Lawrence Logan Intl, RNAV (GPS) RWY 15R, Amdt 1

Boston, MA, General Edward Lawrence Logan Intl, RNAV (GPS) RWY 22L, Amdt 1

Boston, MA, General Edward Lawrence Logan Intl, RNAV (GPS) RWY 33L, Amdt 1

Boston, MA, General Edward Lawrence Logan Intl, VOR/DME-A, Amdt 1

Benton Harbor, MI, Southwest Michigan Rgnl, ILS OR LOC RWY 28, Amdt 7

Benton Harbor, MI, Southwest Michigan Rgnl, RNAV (GPS) RWY 10, Amdt 1A

Benton Harbor, MI, Southwest Michigan Rgnl, RNAV (GPS) RWY 28, Amdt 1

Detroit, MI, Detroit Metropolitan Wayne County, ILS OR LOC RWY 27L, Amdt 3

Detroit, MI, Detroit Metropolitan Wayne County, ILS OR LOC RWY 27R, Amdt 12

Detroit, MI, Detroit Metropolitan Wayne County, RNAV (GPS) RWY 27L, Amdt 2

Detroit, MI, Detroit Metropolitan Wayne County, RNAV (GPS) RWY 27R, Amdt 2

Gladwin, MI, Gladwin Zettel Memorial, NDB RWY 27, Amdt 4

Gladwin, MI, Gladwin Zettel Memorial, RNAV (GPS) RWY 9, Orig

Gladwin, MI, Gladwin Zettel Memorial, RNAV (GPS) RWY 27, Orig

Manistique, MI, Schoolcraft County, Takeoff Minimums and Obstacle DP, Orig

Bigfork, MN, Bigfork Muni, GPS RWY 15, Orig, CANCELLED

Bigfork, MN, Bigfork Muni, RNAV (GPS) RWY 15, Orig

Bigfork, MN, Bigfork Muni, RNAV (GPS) RWY 33, Orig

Greenwood, MS, Greenwood-Leflore, ILS OR LOC RWY 18, Amdt 7

Greenwood, MS, Greenwood-Leflore, RNAV (GPS) RWY 5, Amdt 1

Greenwood, MS, Greenwood-Leflore, VOR RWY 5, Amdt 12

Greenwood, MS, Greenwood-Leflore, Takeoff Minimums and Obstacle DP, Amdt 6

Yazoo City, MS, Yazoo County, Takeoff Minimums and Obstacle DP, Orig

Yazoo City, MS, Yazoo County, VOR/DME-B, Orig

Glasgow, MT, Wokal Field/Glasgow Intl, Takeoff Minimums and Obstacle DP, Orig

Wallace, NC, Henderson Field, NDB RWY 27, Amdt 1, CANCELLED

Caldwell, NJ, Essex County, NDB OR GPS-A, Amdt 5B, CANCELLED

Caldwell, NJ, Essex County, RNAV (GPS) RWY 4, Orig

Caldwell, NJ, Essex County, RNAV (GPS) RWY 10, Orig

Caldwell, NJ, Essex County, RNAV (GPS) RWY 22, Amdt 1

Rochester, NY, Greater Rochester Intl, RNAV (GPS) RWY 25, Orig-A

Ashtabula, OH, Ashtabula County, RNAV (GPS) RWY 9, Orig-A

Ashtabula, OH, Ashtabula County, RNAV (GPS) RWY 27, Orig-A

Ashtabula, OH, Ashtabula County, Takeoff Minimums and Obstacle DP, Orig-A

Youngstown/Warren, OH, Youngstown-Warren Rgnl, ILS OR LOC RWY 14, Amdt 8

Youngstown/Warren, OH, Youngstown-Warren Rgnl, ILS OR LOC RWY 32, Amdt 27

Youngstown/Warren, OH, Youngstown-Warren Rgnl, NDB RWY 32, Amdt 20

Youngstown/Warren, OH, Youngstown-Warren Rgnl, RNAV (GPS) RWY 32, Orig-A

Shawnee, OK, Shawnee, RNAV (GPS) RWY 35, Orig-A

Pelion, SC, Lexington County at Pelion, RNAV (GPS) RWY 18, Orig

Pelion, SC, Lexington County at Pelion, RNAV (GPS) RWY 36, Orig

Pelion, SC, Lexington County at Pelion, VOR-A, Amdt 3

Spartanburg, SC, Spartanburg Downtown Memorial, ILS OR LOC RWY 5, Amdt 1

Spartanburg, SC, Spartanburg Downtown Memorial, NDB OR GPS-A, Amdt 8C, CANCELLED

Spartanburg, SC, Spartanburg Downtown Memorial, RNAV (GPS) RWY 5, Orig

Spartanburg, SC, Spartanburg Downtown Memorial, RNAV (GPS) RWY 23, Orig

Spartanburg, SC, Spartanburg Downtown Memorial, Takeoff Minimums and Obstacle DP, Amdt 1

Gallatin, TN, Sumner County Rgnl, RNAV (GPS) RWY 17, Amdt 1

Gallatin, TN, Sumner County Rgnl, RNAV (GPS) RWY 35, Amdt 1

Rockwood, TN, Rockwood Muni, RNAV (GPS) RWY 4, Orig

Rockwood, TN, Rockwood Muni, RNAV (GPS) RWY 22, Amdt 1

Rockwood, TN, Rockwood Muni, Takeoff Minimums and Obstacle DP, Amdt 2

Crockett, TX, Houston County, GPS RWY 2, Orig-A, CANCELLED

Crockett, TX, Houston County, GPS RWY 20, Orig-A, CANCELLED

Crockett, TX, Houston County, RNAV (GPS) RWY 2, Orig

Crockett, TX, Houston County, RNAV (GPS) RWY 20, Orig

Crockett, TX, Houston County, Takeoff Minimums and Obstacle DP, Orig

Dallas-Fort Worth, TX, Dallas/Fort Worth Intl, ILS OR LOC RWY 13R, ILS RWY 13R (SA CAT II), Amdt 8

Dallas-Fort Worth, TX, Dallas/Fort Worth Intl, RNAV (RNP) Z RWY 13R, Orig-D

Lamesa, TX, Lamesa Muni, NDB RWY 16, Amdt 3

Lamesa, TX, Lamesa Muni, NDB RWY 34, Amdt 4

Lamesa, TX, Lamesa Muni, RNAV (GPS) RWY 16, Orig

Lamesa, TX, Lamesa Muni, RNAV (GPS) RWY 34, Orig

Wichita Falls, TX, Wichita Valley, VOR/DME-C, Amdt 2

Logan, UT, Logan-Cache, RNAV (GPS) RWY 17, Amdt 1

Galax/Hillsville, VA, Twin County, Takeoff Minimums and Obstacle DP, Amdt 2

Lawrenceville, VA, Lawrenceville/Brunswick Muni, RNAV (GPS) RWY 18, Orig-A

Lawrenceville, VA, Lawrenceville/Brunswick Muni, RNAV (GPS) RWY 36, Orig-A

Moneta, VA, Smith Mountain Lake, RNAV (GPS) RWY 23, Orig-A

Moneta, VA, Smith Mountain Lake, VOR/DME OR GPS RWY 23, Orig-A, CANCELLED

Richlands, VA, Tazewell County, Takeoff Minimums and Obstacle DP, Amdt 1

Spokane, WA, Spokane Intl, ILS OR LOC/DME RWY 21, ILS RWY 21 (SA CAT I), ILS RWY 21 (CAT II), ILS RWY 21 (CAT III), Amdt 23

Spokane, WA, Spokane Intl, RNAV (GPS) Y RWY 3, Amdt 2A

Spokane, WA, Spokane Intl, RNAV (GPS) Y RWY 21, Amdt 2

Spokane, WA, Spokane Intl, RNAV (RNP) Z RWY 21, Amdt 1

Hartford, WI, Hartford Muni, NDB OR GPS RWY 11, Amdt 4A, CANCELLED

Hartford, WI, Hartford Muni, RNAV (GPS) RWY 11, Orig

Hartford, WI, Hartford Muni, RNAV (GPS) RWY 29, Orig

Hartford, WI, Hartford Muni, Takeoff Minimums and Obstacle DP, Orig

Hartford, WI, Hartford Muni, VOR OR GPS-A, Amdt 5A, CANCELLED

Menomonie, WI, Menomonie Muni-Score Field, Takeoff Minimums and Obstacle DP, Amdt 1

New Richmond, WI, New Richmond Rgnl, RNAV (GPS) RWY 14, Amdt 2A

Phillips, WI, Price County, NDB OR GPS RWY 6, Amdt 1A, CANCELLED

Phillips, WI, Price County, NDB OR GPS RWY 24, Amdt 3A, CANCELLED

Phillips, WI, Price County, RNAV (GPS) RWY 6, Orig

Phillips, WI, Price County, RNAV (GPS) RWY 24, Orig

Waukesha, WI, Waukesha County, ILS OR LOC RWY 10, Amdt 2

Summersville, WV, Summersville, GPS RWY 4, Amdt 2A, CANCELLED

Summersville, WV, Summersville, GPS RWY 22, Amdt 2A, CANCELLED

Summersville, WV, Summersville, RNAV (GPS) RWY 4, Orig

[FR Doc. 2011-30073 Filed 11-23-11; 8:45 am]

BILLING CODE 4910-13-P